DEPARTMENT OF ENERGY

Federal Energy Regulatory Commission

18 CFR Parts 101 and 201

[Docket No. RM92-1-000; Order No. 552]

Revisions to Uniform Systems of Accounts To Account for Allowances Under the Clean Air Act Amendments of 1990 and Regulatory-Created Assets and Liabilities and to Form Nos. 1, 1-F, 2 and 2-A; Announcing OMB Approval of Information Collection and Recordkeeping Requirements

AGENCY: Federal Energy Regulatory Commission, Department of Energy.

ACTION: Final rule; approval of OMB information collection and recordkeeping requirements.

SUMMARY: In Order No. 552, published in the Federal Register on April 7, 1993, the Commission noted that the Office of Management and Budget (OMB) had not yet approved information collection and recordkeeping requirements associated with the Commission's accounting requirements for certain emissions allowances, regulatory assets, and liabilities. OMB issued the approvals for that collection of information and the associated changes to Form Nos. 1-F, 2, and 2A on May 25, 1993, and Form No. 1 on August 18, 1993. In Order No. 552, the Commission also stated that upon approval by OMB, notice of the effective date would be published in the Federal Register. This issuance provides notice.

DATES: As of December 16, 2022, the information collection and recordkeeping requirements in the final rule amending 18 CFR parts 101 and 201, published on April 7, 1993 (58 FR 17982), were approved by OMB on May 25, 1993, and August 18, 1993.

FOR FURTHER INFORMATION CONTACT: Daniel Birkam (Technical Information), Office of Enforcement, Federal Energy Regulatory Commission, 888 First Street NE, Washington, DC 20426, (202) 502-8035, Daniel.Birkam@ferc.gov.

Nathan Lobel (Legal Information), Office of the General Counsel, Federal Energy Regulatory Commission, 888 First Street NE, Washington, DC 20426, (202) 502-8456, Nathan.lobel@ferc.gov.

SUPPLEMENTARY INFORMATION: Order No. 552 ¹ adopted accounting requirements for allowances for emission of sulfur dioxide under the Clean Air Act Amendments of 1990, and for assets and liabilities created through the ratemaking actions of regulatory agencies. It also adopted new reporting schedules and revised other schedules to be used by jurisdictional companies in reporting information on allowances and regulatory assets and liabilities. These accounting requirements are collections of information under OMB control nos. 1902-0021, 1902-0028, 1902-0029, and 1902-0030. Order No. 552 was published in the Federal Register on April 7, 1993 (58 FR 17982). It became effective on January 1, 1993, with the exception of the information collection provisions, which became effective upon OMB approval. The Commission submitted a copy of the changes to Form Nos. 1-F, 2, and 2A to OMB for its review on April 8, 1993, and OMB approved the information collection on May 25, 1993, under OMB control nos. 1902-0028, 1902-0029, and 1902-0030. The Commission submitted a copy of the changes to Form No. 1 on July 19, 1993, and OMB approved the information collection on August 18, 1993, under OMB control no. 1902-0021.

¹ Revisions to Uniform Systems of Accounts to Account for Allowances Under the Clean Air Act Amendments of 1990 and Regulatory-Created Assets and Liabilities and to Form Nos. 1, 1-F, 2 and 2-A, Order No. 552, 58 FR 17982 (April 7, 1993), FERC Stats. & Regs. ¶ 30,967 (1993) (cross-referenced at 62 FERC ¶ 61,299).

Dated: December 9, 2022.
Kimberly D. Bose,
Secretary.

[FR Doc. 2022-27261 Filed 12-15-22; 8:45 am]

BILLING CODE 6717-01-P